DEPARTMENT OF TRANSPORTATION

Federal Aviation Administration

14 CFR Part 39

[Docket No. FAA-2021-0694; Project Identifier MCAI-2021-00305-T; Amendment 39-21919; AD 2022-03-02]

RIN 2120-AA64

Airworthiness Directives; De Havilland Aircraft of Canada Limited (Type Certificate Previously Held by Bombardier, Inc.) Airplanes

AGENCY: Federal Aviation Administration (FAA), Department of Transportation (DOT).

ACTION: Final rule.

SUMMARY: The FAA is adopting a new airworthiness directive (AD) for certain De Havilland Aircraft of Canada Limited Model DHC-8-401 and -402 airplanes. This AD was prompted by reports of a possible hard contact between the #2 top high level sensor (HLS) terminal screw head and the #6 outer wing fuel access panel stiffener flange. This AD requires removing and replacing or reworking the #6 outer wing fuel access panel assembly. The FAA is issuing this AD to address the unsafe condition on these products.

DATES: This AD is effective March 17, 2022.

The Director of the Federal Register approved the incorporation by reference of a certain publication listed in this AD as of March 17, 2022.

ADDRESSES: For service information identified in this final rule, contact De Havilland Aircraft of Canada Limited, Q-Series Technical Help Desk, 123 Garratt Boulevard, Toronto, Ontario M3K 1Y5, Canada; telephone 416-375-4000; fax 416-375-4539; email thd@dehavilland.com; internet https://dehavilland.com. You may view this service information at the FAA, Airworthiness Products Section, Operational Safety Branch, 2200 South 216th St., Des Moines, WA. For information on the availability of this material at the FAA, call 206-231-3195. It is also available on the internet at https://www.regulations.gov by searching for and locating Docket No. FAA-2021-0694.

Examining the AD Docket

You may examine the AD docket on the internet at https://www.regulations.gov by searching for and locating Docket No. FAA-2021-0694; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Thomas Niczky, Aerospace Engineer, Avionics and Electrical Systems Section, FAA, New York ACO Branch, 1600 Stewart Avenue, Suite 410, Westbury, NY 11590; telephone 516-228-7347; fax 516-794-5531; email 9-avs-nyaco-cos@faa.gov.

SUPPLEMENTARY INFORMATION:

Discussion

Transport Canada Civil Aviation (TCCA), which is the aviation authority for Canada, has issued TCCA AD CF-2021-08, dated March 9, 2021 (TCCA AD CF-2021-08) (also referred to after this as the Mandatory Continuing Airworthiness Information, or the MCAI), to correct an unsafe condition for De Havilland Aircraft of Canada Limited Model DHC-8-401 and -402 airplanes, serial numbers 4001 and 4003 through 4628 inclusive. You may examine the MCAI in the AD docket at https://www.regulations.gov by searching for and locating Docket No. FAA-2021-0694.

The FAA issued a notice of proposed rulemaking (NPRM) to amend 14 CFR part 39 by adding an AD that would apply to certain De Havilland Aircraft of Canada Limited Model DHC-8-401 and -402 airplanes. The NPRM published in the Federal Register on August 24, 2021 (86 FR 47258). The NPRM was prompted by reports of a possible hard contact between the #2 top HLS terminal screw head and the #6 outer wing fuel access panel stiffener flange. The NPRM proposed to require removing and replacing or reworking the #6 outer wing fuel access panel assembly. The FAA is issuing this AD to address the possibility of electrical arcing during a lightning strike, which could be a source of ignition inside the fuel tank. See the MCAI for additional background information.

Comments

The FAA gave the public the opportunity to participate in developing this final rule. The following presents the comments received on the NPRM and the FAA's response to each comment. The Air Line Pilots Association, International, supported the NPRM.

Request To Specify the Latest Revision of the Service Information

Horizon Air requested that the specified service information in paragraphs (g)(1) and (2) of the proposed AD be updated to the latest revision: De Havilland Aircraft of Canada Limited Service Bulletin 84-57-35, Revision B, dated June 9, 2021. Horizon Air also requested that De Havilland Aircraft of Canada Limited Service Bulletin 84-57-35, Revision A, dated February 11, 2021, be added to paragraph (i) of the proposed AD in order to give credit for incorporating that revision.

The FAA agrees, De Havilland Aircraft of Canada Limited Service Bulletin 84-57-35, Revision B, dated June 9, 2021, revises a NOTE and steps to include all part numbers of access panel #6. These changes do not affect operators who use previous revisions of the service information to show compliance with this AD. There are no substantive changes to the procedures between Revision B of the service information and Revision A of the service information, which was proposed as required in the NPRM. The FAA has updated this AD as requested.

Conclusion

The FAA reviewed the relevant data, considered the comments received, and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

De Havilland Aircraft of Canada Limited has issued Service Bulletin 84-57-35, Revision B, dated June 9, 2021. This service information describes procedures for replacing or reworking the #6 outer wing fuel access panel assembly. The rework involves an eddy current or fluorescent liquid penetrant inspection of the rework area for crack indications. This service information is reasonably available because the interested parties have access to it through their normal course of business or by the means identified in the ADDRESSES section.

Costs of Compliance

The FAA estimates that this AD affects 54 airplanes of U.S. registry. For either replacement or repair of the #6 outer wing fuel access panel, depending on the option selected by the operator to comply with this AD, the FAA estimates the following costs:

Estimated Costs
Action | Labor cost | Parts cost | Cost per product
Replacement | Up to 10 work-hours × $85 per hour = Up to $850 | Up to $16,430 | Up to $17,280.
Repair | 13 work-hours × $85 per hour = $1,105 | $49 | $1,154.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-03-02 De Havilland Aircraft of Canada Limited (Type Certificate Previously Held by Bombardier, Inc.): Amendment 39-21919; Docket No. FAA-2021-0694; Project Identifier MCAI-2021-00305-T.

(a) Effective Date

This airworthiness directive (AD) is effective March 17, 2022.

(b) Affected ADs

None.

(c) Applicability

This AD applies to De Havilland Aircraft of Canada Limited Model DHC-8-401 and -402 airplanes, certificated in any category, serial numbers 4001 and 4003 through 4628 inclusive.

(d) Subject

Air Transport Association (ATA) of America Code 57, Wings.

(e) Unsafe Condition

This AD was prompted by reports of a possible hard contact between the #2 top high level sensor (HLS) terminal screw head and the #6 outer wing fuel access panel stiffener flange. The FAA is issuing this AD to address the possibility of electrical arcing during a lightning strike, which could be a source of ignition inside the fuel tank.

(f) Compliance

Comply with this AD within the compliance times specified, unless already done.

(g) Required Actions

Within 8,000 flight hours after the effective date of this AD: Do the actions specified in paragraph (g)(1) or (2) of this AD.

(1) Replace the #6 outer wing fuel access panel assembly in accordance with Section 3.B., Part A, of the Accomplishment Instructions of De Havilland Aircraft of Canada Limited Service Bulletin 84-57-35, Revision B, dated June 9, 2021.

(2) Rework the #6 outer wing fuel access panel assembly, including an eddy current or fluorescent liquid penetrant inspection for crack indications of the rework area, in accordance with Section 3.B., Part B, of the Accomplishment Instructions of De Havilland Aircraft of Canada Limited Service Bulletin 84-57-35, Revision B, dated June 9, 2021. If any crack indication is found, before further flight, repair using a method approved in accordance with the procedures specified in paragraph (j)(2) of this AD.

(h) Parts Installation Prohibition

As of the effective date of this AD, no person may install a #6 outer wing fuel access panel assembly, part numbers (P/Ns) 85714233-003/-004 and 85714233-005/-006, on any airplane.

(i) Credit for Previous Actions

This paragraph provides credit for actions required by paragraph (g) of this AD, if those actions were performed before the effective date of this AD using De Havilland Aircraft of Canada Limited Service Bulletin 84-57-35, dated October 1, 2020; or De Havilland Aircraft of Canada Limited Service Bulletin 84-57-35, Revision A, dated February 11, 2021.

(j) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or responsible Flight Standards Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or Transport Canada Civil Aviation (TCCA); or De Havilland Aircraft of Canada Limited's TCCA Design Approval Organization (DAO). If approved by the DAO, the approval must include the DAO-authorized signature.

(k) Related Information

(1) Refer to Mandatory Continuing Airworthiness Information (MCAI) TCCA AD CF-2021-08, dated March 9, 2021, for related information. This MCAI may be found in the AD docket on the internet at https://www.regulations.gov by searching for and locating Docket No. FAA-2021-0694.

(2) For more information about this AD, contact Thomas Niczky, Aerospace Engineer, Avionics and Electrical Systems Section, FAA, New York ACO Branch, 1600 Stewart Avenue, Suite 410, Westbury, NY 11590; telephone 516-228-7347; fax 516-794-5531; email 9-avs-nyaco-cos@faa.gov.

(3) Service information identified in this AD that is not incorporated by reference is available at the addresses specified in paragraphs (l)(4) and (5) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) De Havilland Aircraft of Canada Limited Service Bulletin 84-57-35, Revision B, dated June 9, 2021.

(ii) [Reserved]

(3) For service information identified in this AD, contact De Havilland Aircraft of Canada Limited, Q-Series Technical Help Desk, 123 Garratt Boulevard, Toronto, Ontario M3K 1Y5, Canada; telephone 416-375-4000; fax 416-375-4539; email thd@dehavilland.com; internet https://dehavilland.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: http://www.archives.gov/federal-register/cfr/ibr-locations.html.

Issued on January 19, 2022.
Lance T. Gant,
Director, Compliance & Airworthiness Division, Aircraft Certification Service.

[FR Doc. 2022-02754 Filed 2-9-22; 8:45 am]

BILLING CODE 4910-13-P